DEPARTMENT OF VETERANS AFFAIRS

VA Vocational Rehabilitation and Employment Task Force; Notice of Meeting

The Department of Veterans Affairs (VA) gives notice under Public Law 92-463 (Federal Advisory Committee Act) that a meeting of the VA Vocational Rehabilitation and Employment (VR&E) Task Force will be held on Monday, June 23, 2003, from 9 a.m. to 5 p.m., and on Tuesday, June 24, 2003, from 9 a.m. to 4 p.m., in Room 230, Department of Veterans Affairs, 810 Vermont Avenue, NW., Washington, DC. The meeting is open to the public.

The purpose of the Task Force is to conduct an independent review of the VR&E program within the Veterans Benefits Administration (VBA). The Task Force will provide recommendations to the Secretary of Veterans Affairs on improving the Department's ability to provide comprehensive services and assistance to veterans with service-connected disabilities and employment handicaps in becoming employable, and obtaining and maintaining suitable employment. The Task Force will also assess independent living services provided by VBA.

On June 23, VBA officials will make presentations on independent living services, self-employment program, and employment placement services. There will be a panel discussion with VA Regional Office Directors on the status of VR&E programs. The Small Business Administration and VA Office of Small and Disadvantaged Business Utilization will provide comment on self-employment opportunities for disabled veterans. On June 24, presentations will be made by the United States Postal Service, AFL-CIO, National Council on Independent Living, and National Organization on Disability with a focus on employment of disabled persons. The Task Force will be briefed by VBA on the G.I. Bill. The Task Force will hear remarks from senior officials from the Department of Health and Human Services and the Department of Education on employing individuals with disabilities. The Commission on Accreditation of Rehabilitation Facilities will also provide comment.

No time will be allocated for receiving oral presentations from the public. Interested parties who wish to attend the meeting should have adequate identification for entry into the building and will be subject to a security screening process. Members of the public may submit written comments for review by the Committee to: Mr. John O'Hara, Executive Director, VA Vocational Rehabilitation and Employment Task Force, VA Office of Policy, Planning, and Preparedness (008B), 810 Vermont Avenue, NW., Washington, DC 20420. Mr. O'Hara can be reached at (202) 273-5130; fax number (202) 273-5991 and e-mail address john.o'hara@mail.va.gov.

Dated: June 4, 2003.
By Direction of the Secretary.
E. Philip Riggin,
Committee Management Officer.

[FR Doc. 03-14812 Filed 6-11-03; 8:45 am]

BILLING CODE 8320-01-M